DEPARTMENT OF LABOR

Employment and Training Administration

[TA-W-70,580]

International Business Machines Corporation: Armonk, NY; Notice of Termination of Investigation

Pursuant to Section 223 of the Trade Act of 1974, as amended, an investigation was initiated in response to a petition filed on May 21, 2009 on behalf of workers of International Business Machines Corporation, Armonk, New York.

The petitioning group of workers is covered by a certification, (TA-W-71,248) which expires on July 31, 2011. Consequently, further investigation in this case would serve no purpose, and the investigation has been terminated.

Signed at Washington, DC this 4th day of March, 2010.
Michael W. Jaffe,
Certifying Officer, Division of Trade Adjustment Assistance.

[FR Doc. 2010-6918 Filed 3-29-10; 8:45 am]

BILLING CODE 4510-FN-P